DEPARTMENT OF TRANSPORTATION

Federal Aviation Administration

14 CFR Part 39

[Docket No. FAA-2004-18728; Directorate Identifier 2003-NM-176-AD; Amendment 39-13838; AD 2004-22-10]

RIN 2120-AA64

Airworthiness Directives; Boeing Model 747-400 and -400F Series Airplanes

AGENCY: Federal Aviation Administration (FAA), DOT.

ACTION: Final rule.

SUMMARY: The FAA is adopting a new airworthiness directive (AD) for certain Boeing Model 747-400 and -400F series airplanes. This AD requires a detailed inspection(s) for cracks and fractures of the side guide support fittings in the lower lobe cargo compartments; and applicable investigative/corrective actions and operational limitations, if necessary. This AD also requires a terminating action for the repetitive inspections. This AD is prompted by reports of cracked/fractured side guide support fittings in the aft, lower lobe cargo compartment. We are issuing this AD to prevent cracked/fractured side guide support fittings in the lower lobe cargo compartments, which could result in unrestrained cargo shifting in flight and damaging the airplane structure or systems, and consequent reduced controllability of the airplane.

DATES: This AD becomes effective December 7, 2004.

The incorporation by reference of certain publications listed in the AD is approved by the Director of the Federal Register as of December 7, 2004.

ADDRESSES: For service information identified in this AD, contact Boeing Commercial Airplanes, P.O. Box 3707, Seattle, Washington 98124-2207. You can examine this information at the National Archives and Records Administration (NARA). For information on the availability of this material at NARA, call (202) 741-6030, or go to: http://www.archives.gov/federal_register/code_of_federal_regulations/ibr_locations.html.

You can examine the contents of this AD docket on the Internet at http://dms.dot.gov, or at the Docket Management Facility, U.S. Department of Transportation, 400 Seventh Street, SW., room PL-401, on the plaza level of the Nassif Building, Washington, DC.

FOR FURTHER INFORMATION CONTACT: Technical information: Ivan Li, Airframe Branch, ANM-120S, FAA, Seattle Aircraft Certification Office, 1601 Lind Avenue, SW., Renton, Washington 98055-4056; telephone (425) 917-6437; fax (425) 917-6590.

Plain language information: Marcia Walters, marcia.walters@faa.gov.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR part 39 with an AD for certain Boeing Model 747-400 and “400F series airplanes. That action, published in the Federal Register on August 6, 2004 (69 FR 47811), proposed to require a detailed inspection(s) for cracks and fractures of the side guide support fittings in the lower lobe cargo compartments; and applicable investigative/corrective actions and operational limitations, if necessary. That action also proposed to require a terminating action for the repetitive inspections.

Comments

Interested persons have been afforded an opportunity to participate in the making of this amendment. No comments were submitted in response to the proposal or the FAA's determination of the cost to the public.

Conclusion

The FAA has determined that air safety and the public interest require the adoption of the rule as proposed.

Costs of Compliance

There are about 22 airplanes of the affected design worldwide. The following table provides the estimated costs for U.S. operators to comply with this AD.

Estimated Costs
Action | Work hours | Average labor rate per hour | Parts | Cost per airplane | Number of U.S.-registered airplanes | Fleet cost
Inspection, per inspection cycle | 5 | $65 | None | $325, per inspection cycle | 3 | $975, per inspection cycle.
Assembly replacement | 25 | $65 | $3,402 | $5,027 | 3 | $15,081.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-22-10 Boeing: Amendment 39-13838. Docket No. FAA-2004-18728; Directorate Identifier 2003-NM-176-AD.

Effective Date

(a) This AD becomes effective December 7, 2004.

Affected ADs

(b) None.

Applicability

(c) This AD applies to Boeing Model 747-400 and “400F series airplanes, certificated in any category; as listed in Boeing Alert Service Bulletin 747-25A3335, dated July 3, 2003.

Unsafe Condition

(d) This AD was prompted by reports of cracked/fractured side guide support fittings in the aft, lower lobe cargo compartment. We are issuing this AD to prevent cracked/fractured side guide support fittings in the lower lobe cargo compartments, which could result in unrestrained cargo shifting in flight and damaging the airplane structure or systems, and consequent reduced controllability of the airplane.

Compliance

(e) You are responsible for having the actions required by this AD performed within the compliance times specified, unless the actions have already been done.

Inspection, Investigative/Corrective Actions, and Operational Limitations

(f) At the applicable time(s) specified in Table 1 of this AD, do a detailed inspection(s) of the side guide support fittings in the lower lobe cargo compartments for cracks and fractures, and before further flight, do all applicable investigative/corrective actions and operational limitations, if necessary, by accomplishing all the actions specified in Work Package 1 and Work Package 2 of the Work Instructions of Boeing Alert Service Bulletin 747-25A3335, dated July 3, 2003; except as required by paragraph (g) of this AD. Replacement of all outboard roller assemblies with new assemblies in accordance with Work Package 2 of the service bulletin ends the repetitive inspections required by paragraph (f)(1) of this AD (Work Package 1).

Table 1.—Compliance Times
For— | Initial compliance time— | Repetitive interval—
(1) Work Package 1 | Within 180 days after the effective date of this AD | At intervals not to exceed 180 days, until all outboard roller assemblies have been replaced per Work Package 2 of the service bulletin.
(2) Work Package 2 | Within 18 months after the effective date of this AD | None.

Note 1: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

Note 2: Boeing Alert Service Bulletin 747-25A3335 refers to Goodrich Alert Service Bulletin 65B60176-25-A01, dated March 3, 2003, as an additional source of service information for replacing the outboard roller assemblies.

Alternative Methods of Compliance (AMOCs)

(g) The Manager, Seattle ACO, has the authority to approve AMOCs for this AD, if requested in accordance with the procedures found in 14 CFR 39.19.

Material Incorporated by Reference

(h) You must use Boeing Alert Service Bulletin 747-25A3335, dated July 3, 2003, to perform the actions that are required by this AD, unless the AD specifies otherwise. The Director of the Federal Register approves the incorporation by reference of this document in accordance with 5 U.S.C. 552(a) and 1 CFR part 51. For copies of the service information, contact Boeing Commercial Airplanes, P.O. Box 3707, Seattle, Washington 98124-2207. For information on the availability of this material at the National Archives and Records Administration (NARA), call (202) 741-6030, or go to http://www.archives.gov/federal_register/code_of_federal_regulations/ibr_locations.html. You may view the AD docket at the Docket Management Facility, U.S. Department of Transportation, 400 Seventh Street SW, room PL-401, Nassif Building, Washington, DC.

Issued in Renton, Washington, on October 21, 2004.
Kalene C. Yanamura,
Acting Manager, Transport Airplane Directorate, Aircraft Certification Service.

[FR Doc. 04-24227 Filed 11-1-04; 8:45 am]

BILLING CODE 4910-13-P